DEPARTMENT OF ENERGY

Federal Energy Regulatory Commission

Combined Notice of Filings #1

Take notice that the Commission received the following electric corporate filings:

Docket Numbers: EC18-51-000.

Applicants: MDU Resources Group, Inc.

Description: Application for Authorization Under Section 203 of the Federal Power Act of MDU Resources Group, Inc.

Filed Date: 1/31/18.

Accession Number: 20180131-5295.

Comments Due: 5 p.m. ET 2/21/18.

Take notice that the Commission received the following exempt wholesale generator filings:

Docket Numbers: EG18-40-000.

Applicants: Upstream Wind Energy LLC.

Description: Notice of Self-Certification of Exempt Wholesale Generator Status of Upstream Wind Energy LLC.

Filed Date: 2/2/18.

Accession Number: 20180202-5044.

Comments Due: 5 p.m. ET 2/23/18.

Docket Numbers: EG18-41-000.

Applicants: New Mexico Wind, LLC.

Description: Notice of Self-Certification of Exempt Wholesale Generator Status of New Mexico Wind, LLC.

Filed Date: 2/2/18.

Accession Number: 20180202-5054.

Comments Due: 5 p.m. ET 2/23/18.

Take notice that the Commission received the following electric rate filings:

Docket Numbers: ER18-752-001.

Applicants: Duke Energy Carolinas, LLC.

Description: Tariff Amendment: Amendments to CEPCI NITSA (SA No. 447) and Meter Agreement (SA No. 448) to be effective 1/1/2018.

Filed Date: 2/2/18.

Accession Number: 20180202-5021.

Comments Due: 5 p.m. ET 2/23/18.

Docket Numbers: ER18-780-000.

Applicants: Southern California Edison Company.

Description: § 205(d) Rate Filing: Notices of Cancellation of GIAs & Service Agreements SunEdison LLC to be effective 4/4/2018.

Filed Date: 2/2/18.

Accession Number: 20180202-5001.

Comments Due: 5 p.m. ET 2/23/18.

Docket Numbers: ER18-781-000.

Applicants: Southern California Edison Company.

Description: § 205(d) Rate Filing: Amended LGIA RE Gaskell West, RE Gaskell West 1, RE Gaskell West 2, SA No. 184 to be effective 2/3/2018.

Filed Date: 2/2/18.

Accession Number: 20180202-5002.

Comments Due: 5 p.m. ET 2/23/18.

Docket Numbers: ER18-782-000.

Applicants: American Transmission Systems, Incorporated, PJM Interconnection, L.L.C.

Description: § 205(d) Rate Filing: ATSI submits Revised Interconnection Agreement No. 3994 to be effective 4/4/2018.

Filed Date: 2/2/18.

Accession Number: 20180202-5020.

Comments Due: 5 p.m. ET 2/23/18.

Docket Numbers: ER18-783-000.

Applicants: MISO Transmission Owners.

Description: Expedited Petition of the certain MISO Transmission Owners for Waiver of Tariff Provisions and Shortened Answer Date.

Filed Date: 2/1/18.

Accession Number: 20180201-5136.

Comments Due: 5 p.m. ET 2/22/18.

Docket Numbers: ER18-784-000.

Applicants: Upstream Wind Energy LLC.

Description: Baseline eTariff Filing: Application for Market-Based Rate Authorization to be effective 4/4/2018.

Filed Date: 2/2/18.

Accession Number: 20180202-5022.

Comments Due: 5 p.m. ET 2/23/18.

Docket Numbers: ER18-784-001.

Applicants: Upstream Wind Energy LLC.

Description: Tariff Amendment: Supplement to Application for Market-Based Rate Authorization to be effective 4/4/2018.

Filed Date: 2/2/18.

Accession Number: 20180202-5060.

Comments Due: 5 p.m. ET 2/23/18.

Docket Numbers: ER18-785-000.

Applicants: Public Service Company of New Hampshire.

Description: § 205(d) Rate Filing: Large Interconnection Agreement with GSP Newington Station to be effective 1/10/2018.

Filed Date: 2/2/18.

Accession Number: 20180202-5070.

Comments Due: 5 p.m. ET 2/23/18.

Docket Numbers: ER18-786-000.

Applicants: Public Service Company of New Hampshire.

Description: § 205(d) Rate Filing: Large Interconnection Agreement with GSP White Lake to be effective 1/10/2018.

Filed Date: 2/2/18.

Accession Number: 20180202-5072.

Comments Due: 5 p.m. ET 2/23/18.

Docket Numbers: ER18-787-000.

Applicants: Public Service Company of New Hampshire.

Description: § 205(d) Rate Filing: Small Interconnection Agreement with GSP Lost Nation to be effective 1/10/2018.

Filed Date: 2/2/18.

Accession Number: 20180202-5074.

Comments Due: 5 p.m. ET 2/23/18.

Docket Numbers: ER18-788-000.

Applicants: Midcontinent Independent System Operator, Inc., Consumers Energy Company.

Description: § 205(d) Rate Filing: 2018-02-02 Consumers Attachment O Filing re Settlement in ER16-1188; ER17-1655 to be effective 3/31/2018.

Filed Date: 2/2/18.

Accession Number: 20180202-5085.

Comments Due: 5 p.m. ET 2/23/18.

Docket Numbers: ER18-789-000.

Applicants: PJM Interconnection, L.L.C.

Description: Tariff Cancellation: Notice of Cancellation of WMPA No. 4822; Queue AC1-019 to be effective 3/23/2018.

Filed Date: 2/2/18.

Accession Number: 20180202-5086.

Comments Due: 5 p.m. ET 2/23/18.

Docket Numbers: ER18-790-000.

Applicants: Pacific Gas and Electric Company.

Description: § 205(d) Rate Filing: 2-2-18 Unexecuted Agreement, City and County of San Francisco WDT (SA 27 to be effective 2/3/2018.

Filed Date: 2/2/18.

Accession Number: 20180202-5120.

Comments Due: 5 p.m. ET 2/23/18.

Docket Numbers: ER18-791-000.

Applicants: Massachusetts Electric Company.

Description: Tariff Cancellation: Notice of Cancellation of Service Agmt IA-MECO-31-01 & Notice Waiver Request to be effective 12/21/2016.

Filed Date: 2/2/18.

Accession Number: 20180202-5123.

Comments Due: 5 p.m. ET 2/23/18.

Take notice that the Commission received the following public utility holding company filings:

Docket Numbers: PH18-5-000.

Applicants: Cross & Company, PLLC.

Description: GEP Bison Holdings, Inc. submits FERC 65-A Exemption Notification.

Filed Date: 2/1/18.

Accession Number: 20180201-5154.

Comments Due: 5 p.m. ET 2/22/18.

The filings are accessible in the Commission's eLibrary system by clicking on the links or querying the docket number.

Any person desiring to intervene or protest in any of the above proceedings must file in accordance with Rules 211 and 214 of the Commission's Regulations (18 CFR 385.211 and 385.214) on or before 5:00 p.m. Eastern time on the specified comment date. Protests may be considered, but intervention is necessary to become a party to the proceeding.

eFiling is encouraged. More detailed information relating to filing requirements, interventions, protests, service, and qualifying facilities filings can be found at: http://www.ferc.gov/docs-filing/efiling/filing-req.pdf. For other information, call (866) 208-3676 (toll free). For TTY, call (202) 502-8659.

Dated: February 2, 2018.
Kimberly D. Bose,
Secretary.

[FR Doc. 2018-02531 Filed 2-7-18; 8:45 am]

BILLING CODE 6717-01-P